DEPARTMENT OF HOMELAND SECURITY

Coast Guard

[Docket No. USCG-2009-0093]

Announcement of Public Meeting Regarding the Ambassador Bridge Enhancement Project, Detroit River, Detroit, MI and Windsor, ON, Canada

AGENCY: Coast Guard, DHS.

ACTION: Notice of public meeting.

SUMMARY: The United States Coast Guard (USCG), as lead federal agency under the National Environmental Policy Act, will hold a public meeting for citizens to provide oral comments relating to the Ambassador Bridge Enhancement Project (ABEP) across the Detroit River between Detroit, MI and Windsor, ON, Canada. The project entails construction of a companion bridge adjacent to the existing Ambassador Bridge. This meeting will serve to update the public on the USCG coordination efforts with other expert agencies that have occurred since the ABEP draft Environmental Assessment was published for comment in May 2007. The meeting will be open to the public.

DATES: The meeting will be held on March 17, 2009, from 6 p.m. to 8 p.m. If you would like to submit written materials as part of the meeting record or request to make an oral presentation at the meeting please provide your information to the Docket Management Facility no later than March 12, 2009. All comments you wish to incorporate as part of the meeting record must be received by March 23, 2009.

ADDRESSES: The meeting will be held at the Earhart Middle School located at 1000 Scotten Street, Detroit, Michigan 48209.

You may send written material, comments and requests to make oral presentation and all other comments and materials, under the Coast Guard docket number USCG-2009-0093, to the Docket Management Facility at the U.S. Department of Transportation using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this meeting is available on the Internet at http://www.regulations.gov under docket number USCG-2009-0093.

FOR FURTHER INFORMATION CONTACT: If you have questions regarding this notice call Ms. Hala Elgaaly, Administrator, Bridge Program, 202-372-1511. If you have questions on viewing or submitting material to the docket, call Renee V. Wright, Program Manager, Docket Operations, telephone 202-366-9826.

SUPPLEMENTARY INFORMATION:

Background

On July 13, 2006, the Detroit International Bridge Company submitted a bridge permit application to the USCG for construction of a new companion bridge adjacent to the existing Ambassador Bridge between Detroit, MI and Windsor, ON, Canada. The new bridge will provide six lanes of travel, three in each direction. One lane in each direction will be dedicated to low-risk commercial traffic and the other lanes will be open to general automobile and commercial traffic. The existing bridge, which is approximately 80 years old, will be closed to general traffic and used in the event of an emergency that results in the new bridge becoming unavailable, as well as for official government vehicles, bridge company vehicles, and special occasions. A draft Environmental Assessment was issued by the USCG for this project in May 2007. Since May 2007, substantial coordination has taken place with other expert agencies including, but not limited to, the Environmental Protection Agency, the Federal Highway Administration, the Advisory Council on Historic Preservation, Transport Canada, the Canadian Environmental Assessment Agency, representatives from the Michigan State Legislature, Michigan State Historic Preservation Office, the Southeast Michigan Council of Governments, and the Michigan Department of Transportation. As a result of this coordination, a Memorandum of Agreement pursuant to Section 106 of the National Historic Preservation Act has been executed and a Final Environmental Assessment/Draft Finding of No Significant Impact has been prepared.

The meeting is being held at the request of Congressman John Dingell, Michigan's 15th District Representative, to update the public on the proposed project, the environmental document and the USCG bridge permitting process.

You may view all written material and comments submitted for the meeting record in our online docket by going to http://www.regulations.gov. Once there, select the Advanced Docket Search option on the right side of the screen, insert USCG-2009-0093 in the Docket ID box, press Enter, and then click on the item in the Docket ID column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this meeting by submitting oral or written comments and any related materials. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008 issue of the Federal Register (73 FR 3316).

Procedural

The meeting is open to the public. Attendees at the meeting, who wish to present testimony and have not previously made a request to do so, will follow those having submitted a request, as time permits. All oral presentations will be limited to three minutes. The public meeting may end early if all present wishing to speak have done so. A stenographer will be present to record this meeting. We will provide a copy of the meeting transcript and any additional relevant material obtained at the meeting to the docket.

Information on Services for Individuals With Disabilities

For information on facilities or services for individuals with disabilities or to request special assistance at the meeting, contact the individual listed in the FOR FURTHER INFORMATION CONTACT section as soon as possible.

Dated: February 11, 2009.
Hala Elgaaly,
Administrator, Bridge Program, U.S. Coast Guard, By direction of the Commandant.

[FR Doc. E9-3324 Filed 2-13-09; 8:45 am]

BILLING CODE 4910-15-P